DEPARTMENT OF COMMERCE

International Trade Administration

[A-552-802]

Certain Frozen Warmwater Shrimp From the Socialist Republic of Vietnam: Extension of Preliminary Results of Antidumping Duty Administrative Review

AGENCY: Import Administration, International Trade Administration, Department of Commerce.

DATES: Effective Date: October 20, 2011.

SUMMARY: The Department of Commerce (the “Department”) has decided to extend the time limit for the preliminary results of the sixth administrative review of the antidumping duty order on certain frozen warmwater shrimp (“shrimp”) from the Socialist Republic of Vietnam (“Vietnam”) to January 30, 2012. The period of review (“POR”) is February 1, 2010, through January 31, 2011.

FOR FURTHER INFORMATION CONTACT: Toni Dach or Seth Isenberg, AD/CVD Operations, Office 9, Import Administration, International Trade Administration, U.S. Department of Commerce, 14th Street and Constitution Avenue, NW., Washington, DC 20230; telephone: (202) 482-1655 and (202) 482-0588, respectively.

SUPPLEMENTARY INFORMATION:

Background

On March 31, 2011, the Department published in the Federal Register a notice of initiation of the administrative review of the antidumping duty order on certain frozen warmwater shrimp from Vietnam. See Initiation of Antidumping Duty Administrative Reviews, Requests for Revocation in Part, and Deferral of Administrative Review, 76 FR 17825 (March 31, 2011) (“Initiation Notice”). The preliminary results are currently due no later than October 31, 2011.

Statutory Time Limits

In antidumping duty administrative reviews, section 751(a)(3)(A) of the Tariff Act of 1930, as amended (“the Act”), requires the Department to make a preliminary determination within 245 days after the last day of the anniversary month of an order for which a review is requested and a final determination within 120 days after the date on which the preliminary results are published. However, if it is not practicable to complete the review within these time periods, section 751(a)(3)(A) of the Act allows the Department to extend the time limit for the preliminary determination to a maximum of 365 days after the last day of the anniversary month.

Extension of Time Limit of Preliminary Results

We determine that it is not practicable to complete the preliminary results of this administrative review within the original time limit because the Department requires additional time to analyze the questionnaire responses which include substantial sales and factor information, issue supplemental questionnaires, and to evaluate surrogate value submissions.

Therefore, in accordance with section 751(a)(3)(A) of the Act and 19 CFR 351.213 (h)(2), the Department is extending the time limit for the preliminary results by 90 days, until January 30, 2012. The final results continue to be due 120 days after the publication of the preliminary results.

We are issuing and publishing this notice in accordance with sections 751(a)(3)(A) and 777(i) of the Act.

Dated: October 12, 2011.
Christian Marsh,
Deputy Assistant Secretary of Antidumping and Countervailing Duty Operations.

[FR Doc. 2011-27208 Filed 10-19-11; 8:45 am]

BILLING CODE 3510-DS-P